DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 02-024.

Applicant: Massachusetts Institute of Technology, Gas Turbine Laboratory, 31-265, 77 Massachusetts Avenue, Cambridge, MA 02139-4307.

Instrument: Universal 5 Axis High Speed Machining Center, Model UCP 600.

Manufacturer: Mikron, Switzerland.

Intended Use: The instrument is intended to be used to study electromechanics at micron to millimeter scale; micro fluid and structural mechanics; micro rotor dynamics and air bearing fluid flow. Micro motor/generator torque and efficiency versus speed, micro turbomachinery pressure, rise flow capacity and efficiency, micro rotor precession and whirl onset, microbearing load capacity and stability will be investigated. Micro motor/generator, jet engines and rocket turbopumps will be spun to high speed (over 1 million rpm) during which their electrical performance, pressure rise versus flow characteristics, efficiency, and rotor motion will be measured by optical techniques and micro-sensors. The instrument will also be used for educational purposes in two graduate level courses: (1) Aircraft Gas Turbine Structures and (2) Aircraft Gas Turbine Design.

Application accepted by Commissioner of Customs: June 13, 2002.

Gerald A. Zerdy,
Program Manager, Statutory Import Programs Staff.

[FR Doc. 02-17029 Filed 7-8-02; 8:45 am]

BILLING CODE 3510-DS-P